DEPARTMENT OF THE INTERIOR

Fish and Wildlife Service

Aquatic Nuisance Species Task Force Great Lakes Panel Meeting

AGENCY: Fish and Wildlife Service, Interior.

ACTION: Notice of meeting.

SUMMARY: This notice announces a meeting of the Aquatic Nuisance Species (ANS) Task Force Great Lakes Panel. The meeting topics are identified in the SUPPLEMENTARY INFORMATION.

DATES: The Great Lakes Panel will meet from 10 am to 5 pm on Tuesday, December 10, 2002, and 8 am to 1 pm on Wednesday, December 11, 2002.

ADDRESSES: The Great Lakes Panel meeting will be held at the Holiday Inn, North Campus, 3600 Plymouth Road in Ann Arbor, Michigan. Phone (734) 769-9800.

FOR FURTHER INFORMATION CONTACT: Kathe Glassner-Shwayder, Project Manager, Great Lakes Commission, at 734-665-9135 or Sharon Gross, Executive Secretary, Aquatic Nuisance Species Task Force at 703_358-2308 or by e-mail at: sharon_gross@fws.gov.

SUPPLEMENTARY INFORMATION: Pursuant to section 10(a)(2) of the Federal Advisory Committee Act (5 U.S.C. App. I), this notice announces a meeting of the Aquatic Nuisance Species Task Force Great Lakes Panel. The Task Force was established by the Nonindigenous Aquatic Nuisance Prevention and Control Act of 1990.

The Great Lakes Panel, comprised of representatives from Federal, State, and local agencies and from private environmental and commercial interests, performs the following activities:

(a) Identifies priorities for the Great Lakes Region with respect to aquatic nuisance species;

(b) Makes recommendations to the Task Froce regarding programs to carry out zebra mussel programs;

(c) Assists the Task Force in coordinating Federal aquatic nuisance species program activities in the Great Lakes region;

(d) Coordinates, where possible, aquatic nuisance species program activities in the Great Lakes region that are not conducted pursuant to th enonindigenous Aquatic Nuisance Prevention and Control Act of 1990 (as amended, 1996);

(e) Provides advice to public and private individuals and entities concerning methods of controlling aquatic nuisance species; and

(f) Submits an annual report describing activities within the Great Lakes region related to aquatic nuisance species prevention, research, and control.

Topics to be addressed at this meeting include: an update and a discussion on key provisions of the National Aquatic Invasive Species Act (NAISA) of 2002; a discussion on the Great Lakes Panel's Rapid Response Model Plan; a discussion on the development of Panel priorities through regional coordination; an update on the development of ballast water standards; a review of project and related concerns on Asian carp invasions; and a discussion on the review process for Sea Grant Proposals and the role of regional panels.

Minutes of the meeting will be maintained by the Executive Secretary, Aquatic Nuisance Species Task Force, Suite 810, 4401 North Fairfax Dirve, Arlington, Virginia 22203-1622, and will be available for public inspection during regular business hours, Monday through Friday.

Dated: October 30, 2002.
Robert J. Batky,
Acting Co-Chair, Aquatic Nuisance Species Task Force, Acting Assistant Director—Fisheries & Habitat Conservation.

[FR Doc. 02-29690 Filed 11-21-02; 8:45 am]

BILLING CODE 4310-55-M